DEPARTMENT OF THE INTERIOR

Fish and Wildlife Service

[FWS-HQ-R-2016-N081; FXGO1664091HCC0-FF09D00000-167]

Wildlife and Hunting Heritage Conservation Council; Public Meeting

AGENCY: Fish and Wildlife Service, Interior.

ACTION: Notice of meeting.

SUMMARY: We, the U.S. Fish and Wildlife Service, announce a public meeting of the Wildlife and Hunting Heritage Conservation Council (Council). The Council provides advice about wildlife and habitat conservation endeavors that benefit wildlife resources; encourage partnership among the public, sporting conservation organizations, States, Native American tribes, and the Federal Government; and benefit recreational hunting.

DATES: Meeting: Wednesday, June 22, 2016, from 10:30 a.m. to 4 p.m., and Thursday, June 23, 2016, from 8 a.m. to 1 p.m. (Eastern Standard Time). For deadlines and directions on registering to attend, submitting written material, and giving an oral presentation, please see “Public Input” under SUPPLEMENTARY INFORMATION.

ADDRESSES: The meeting will be held at the National Wild Turkey Federation Visitor Center, 770 Augusta Road, Edgefield, South Carolina, 29824.

FOR FURTHER INFORMATION CONTACT: Joshua Winchell, Council Designated Federal Officer, U.S. Fish and Wildlife Service, National Wildlife Refuge System, 5275 Leesburg Pike, Falls Church, VA 22041-3803; telephone: (703) 358-2639; or email: joshua_winchell@fws.gov.

SUPPLEMENTARY INFORMATION: In accordance with the requirements of the Federal Advisory Committee Act, 5 U.S.C. App., we announce that the Wildlife and Hunting Heritage Conservation Council will hold a meeting.

Background

Formed in February 2010, the Council provides advice about wildlife and habitat conservation endeavors that:

1. Benefit wildlife resources;

2. Encourage partnership among the public, sporting conservation organizations, States, Native American tribes, and the Federal Government; and

3. Benefit recreational hunting.

The Council advises the Secretary of the Interior and the Secretary of Agriculture, reporting through the Director, U.S. Fish and Wildlife Service (Service), in consultation with the Director, Bureau of Land Management (BLM); Director, National Park Service (NPS); Chief, Forest Service (USFS); Chief, Natural Resources Conservation Service (NRCS); and Administrator, Farm Services Agency (FSA). The Council's duties are strictly advisory and consist of, but are not limited to, providing recommendations for:

1. Implementing the Recreational Hunting and Wildlife Resource Conservation Plan—A Ten-Year Plan for Implementation;

2. Increasing public awareness of and support for the Wildlife Restoration Program;

3. Fostering wildlife and habitat conservation and ethics in hunting and shooting sports recreation;

4. Stimulating sportsmen and women's participation in conservation and management of wildlife and habitat resources through outreach and education;

5. Fostering communication and coordination among State, tribal, and Federal governments; industry; hunting and shooting sportsmen and women; wildlife and habitat conservation and management organizations; and the public;

6. Providing appropriate access to Federal lands for recreational shooting and hunting;

7. Providing recommendations to improve implementation of Federal conservation programs that benefit wildlife, hunting, and outdoor recreation on private lands; and

8. When requested by the Designated Federal Officer in consultation with the Council Chairperson, performing a variety of assessments or reviews of policies, programs, and efforts through the Council's designated subcommittees or workgroups.

Background information on the Council is available at http://www.fws.gov/whhcc.

Meeting Agenda

The Council will convene to consider issues including:

1. Wildlife habitat and health;

2. Funding for public lands and wildlife management;

3. Endangered Species Act; and

4. Other Council business.

The final agenda will be posted on the Internet at http://www.fws.gov/whhcc.

Public Input

If you wish to | You must contact the Council Designated Federal Officer (see FOR FURTHER INFORMATION CONTACT) no later than
Attend the meeting | June 9, 2016.
Submit written information or questions before the meeting for the council to consider during the meeting | June 9, 2016.
Give an oral presentation during the meeting | June 9, 2016.

Attendance

To attend this meeting, register by close of business on the dates listed in “Public Input” under SUPPLEMENTARY INFORMATION. Please submit your name, time of arrival, email address, and phone number to the Council Designated Federal Officer (see FOR FURTHER INFORMATION CONTACT).

Submitting Written Information or Questions

Interested members of the public may submit relevant information or questions for the Council to consider during the public meeting. Written statements must be received by the date in Public Input, so that the information may be made available to the Council for their consideration prior to this meeting. Written statements must be supplied to the Council Designated Federal Officer in both of the following formats: One hard copy with original signature, and one electronic copy via email (acceptable file formats are Adobe Acrobat PDF, MS Word, MS PowerPoint, or rich text file).

Giving an Oral Presentation

Individuals or groups requesting to make an oral presentation at the meeting will be limited to 2 minutes per speaker, with no more than a total of 30 minutes for all speakers. Interested parties should contact the Council Designated Federal Officer, in writing (preferably via email; see FOR FURTHER INFORMATION CONTACT), to be placed on the public speaker list for this meeting. Nonregistered public speakers will not be considered during the meeting. Registered speakers who wish to expand upon their oral statements, or those who had wished to speak but could not be accommodated on the agenda, may submit written statements to the Council Designated Federal Officer up to 30 days subsequent to the meeting.

Meeting Minutes

Summary minutes of the conference will be maintained by the Council Designated Federal Officer (see FOR FURTHER INFORMATION CONTACT). They will be available for public inspection within 90 days of the meeting, and will be posted on the Council's Web site at http://www.fws.gov/whhcc.

Stephen Guertin,
Deputy Director, U.S. Fish and Wildlife Service.

[FR Doc. 2016-12322 Filed 5-24-16; 8:45 am]

BILLING CODE 4333-15-P